DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held June 19, 2013, from 8:30 a.m.-1:30 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

June 19, 2013

• Welcome and Introductions.

• Review/Approve Meeting Summary.

• March 20, 2013, RTCA Paper No. 096-13/PMC-1083.

• Publication Consideration/Approval

• Final Draft, Revised DO-236B, Minimum Aviation System Performance Standards (MASPS) for Required Navigation Performance for Area Navigation, RTCA Paper No. 094-13/PMC-1081, prepared by SC-227.

• Final Draft, New Document, Operational and Functional Requirements and Safety Objectives for Unmanned Aircraft System Standards, RTCA Paper No. 102-13/PMC-1084, prepared by SC-203.

• Integration and Coordination Committee (ICC)—Report

• Inter-Special Committee Requirements Agreement (ISRA) Guidance—Process Review and Recommendations.

• Action Item Review

• SC-228—Minimum Performance Standards for Unmanned Aircraft Systems and PMC UAS Steering Committee—Discussion—Status.

• Discussion

• SC-186—Automatic Dependent Surveillance—Broadcast—Discussion—Revised Terms of Reference.

• SC-213—Enhanced Flight & Synthetic Vision Systems—Discussion—Revised Terms of Reference.

• SC-214—Standards for Air Traffic Data Communications Services—Discussion—Revised Terms of Reference.

• SC-216—Aeronautical Systems Security—Discussion—Revised Terms of Reference.

• SC-225—Rechargeable Lithium Batteries—Discussion—Revised Terms of Reference.

• SC-227—Standards of Navigation Performance—Discussion—Revised Terms of Reference.

• Presentation—Part 23 ARC Report—Areas/Recommendations for RTCA Support—Discussion.

• NAC—Status Update.

• FAA Actions Taken on Previously Published Documents—Report.

• Special Committees—Chairmen's Reports and Active Inter-Special Committee Requirements Agreements (ISRA)—Review.

• European/EUROCAE Coordination—Status Update.

• Other Business.

• Schedule for Committee Deliverables and Next Meeting Date.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on May 23, 2013
Paige Williams,
Management Analyst, NextGen, Business Operations Group, Federal Aviation Administration.

[FR Doc. 2013-13019 Filed 5-31-13; 8:45 am]

BILLING CODE 4910-13-P